DEPARTMENT OF EDUCATION

Applications for New Awards; Personnel Development To Improve Services and Results for Children With Disabilities—Improving Retention of Special Education Teachers and Early Intervention Personnel

AGENCY: Office of Special Education and Rehabilitative Services, Department of Education.

ACTION: Notice.

SUMMARY: The Department of Education (Department) is issuing a notice inviting applications for new awards for fiscal year (FY) 2020 for Personnel Development to Improve Services and Results for Children with Disabilities—Improving Retention of Special Education Teachers and Early Intervention Personnel, Catalog of Federal Domestic Assistance (CFDA) number 84.325P. This notice relates to the approved information collection under OMB control number 1820-0028.

DATES:

Applications Available: June 11, 2020.

Deadline for Transmittal of Applications: August 17, 2020.

Deadline for Intergovernmental Review: October 14, 2020.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Sarah Allen, U.S. Department of Education, 400 Maryland Avenue SW, Room 5160, Potomac Center Plaza, Washington, DC 20202-5076. Telephone: (202) 245-7875. Email: Sarah.Allen@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of this program are to (1) help address State-identified needs for personnel preparation in special education, early intervention, related services, and regular education to work with children, including infants and toddlers, and youth with disabilities; and (2) ensure that those personnel have the necessary skills and knowledge, derived from practices that have been determined through scientifically based research, to be successful in serving those children.

Priorities: This competition includes one absolute priority and one competitive preference priority. In accordance with 34 CFR 75.105(b)(2)(v), the absolute priority and competitive preference priority are from allowable activities specified in the statute (see sections 662 and 681 of the Individuals with Disabilities Education Act (IDEA); 20 U.S.C. 1462 and 1481).

Absolute Priority: For FY 2020 and any subsequent year in which we make awards from the list of unfunded applications from this competition, this priority is an absolute priority. Under 34 CFR 75.105(c)(3), we consider only applications that meet this priority.

This priority is:

Improving Retention of Special Education Teachers and Early Intervention Personnel.

Background

Many local educational agencies (LEAs) and early intervention service (EIS) providers face challenges with retention ¹ of qualified personnel who serve and support children with disabilities in schools, classrooms, and natural environments under IDEA (Espinoza et al., 2018; IDEA Infant and Toddlers Coordinators Association, 2019). Across all subject areas, national estimates suggest that approximately 8 percent of teachers leave the profession each year, and two-thirds of them leave for reasons other than retirement. Within special education, teacher turnover is estimated to exceed 14 percent annually (Carver-Thomas & Darling-Hammond, 2017). These staffing shortages are costly for the systems faced with repeatedly replacing those who move out of the system or leave the profession. Moreover, low retention rates among special education teachers and early intervention personnel have negative implications for the development, learning, and academic success of infants, toddlers, children, and youth with disabilities (Council for Exceptional Children, 2019). Staff turnover is disruptive to instructional programming and practices, which in turn decreases student learning and achievement (Sutcher et al., 2016).

¹ For the purposes of this competition, the term “retention” means that special education teachers and early intervention service providers stay in their current position or field serving children with disabilities.

Efforts to improve retention of special education teachers and early intervention personnel require understanding factors associated with, or contributing to, their decisions to stay, move, or leave the profession. Factors impacting retention consistently include preparation and qualifications, support for new hires, compensation, school or program characteristics, working conditions, and demographic and nonwork influences (Billingsley & Bettini, 2019; Carver-Thomas & Darling-Hammond, 2017; Mason-Williams et al., 2019). Further, policies and practices that research has shown to improve personnel retention include offering service scholarships and loan forgiveness, creating career pathway programs that bring well-prepared candidates into teaching (e.g., “Grow Your Own” and teacher cadet programs), establishing teacher residency models in hard-to-staff districts, mentoring and induction for new hires, strengthening school principals' and administrators' understanding of special education, and providing competitive compensation (Billingsley & Bettini, 2019; Carver-Thomas & Darling-Hammond, 2017; Espinoza et al., 2018; Mason-Williams et al., 2019).

Finally, comprehensive strategies to address retention of special education teachers and EIS providers benefit from effective organizational partnerships between relevant stakeholders (Espinoza et al., 2018), including personnel preparation faculty and researchers, parents and families, professional organizations, and practitioners and administrators at the State, regional, and local levels. With the goal of ensuring alignment between preparation programs and the needs of the local systems serving children with disabilities, stronger partnerships bring stakeholders together regularly to share knowledge, address common challenges, and develop enduring relationships around shared goals. By connecting these research findings with available resources from technical assistance centers funded by the Office of Special Education Programs (OSEP), such as The Educator Shortages in Special Education Toolkit (Great Teachers and Leaders Center, 2020) and A System Framework for Building High-Quality Early Intervention and Preschool Special Education Programs (Early Childhood Technical Assistance Center, 2015), States, regional, and local systems will be better able to develop, implement, evaluate, scale-up, and sustain comprehensive retention plans, resulting in meaningful improvement in retention of special education teachers and early intervention personnel.

Over the past year, OSEP has engaged the field in numerous activities related to attracting, preparing, and retaining effective personnel and received considerable feedback that State educational agencies (SEAs) and Part C lead agencies would benefit from investments that support their efforts to improve retention. The proposed investment under the absolute priority would fund efforts by SEAs or Part C lead agencies, in collaboration with LEAs or EIS providers, to plan, implement, evaluate, scale-up, and sustain a comprehensive retention plan that uses evidence-based policies and practices to address factors contributing to low retention in these systems. This priority is consistent with the Secretary's Supplemental Priority 5: Meeting the Unique Needs of Students and Children with Disabilities and/or Those with Unique Gifts and Talents; and Supplemental Priority 8: Promoting Effective Instruction in Classrooms and Schools.

The projects must be awarded and operated in a manner consistent with nondiscrimination requirements contained in the U.S. Constitution and the Federal civil rights laws.

Priority

The purpose of this priority is to fund grants to achieve, at a minimum, the following expected outcomes:

(a) Increased capacity of State, regional, and local systems to develop, implement, evaluate, scale-up, and sustain comprehensive retention plans that use evidence-based policies and practices to address identified factors contributing to low retention of special education teachers and early intervention personnel. Such a plan might include mentorship or induction programs, career pathways programs, recognition and incentive programs, competitive compensation, service scholarships, or student loan repayment for continued service.

(b) Increased capacity of State, regional, and local systems to evaluate their comprehensive retention plans and how the plans are implemented.

(c) Increased capacity of State, regional, and local systems to effectively partner with a broad range of stakeholder groups—including, but not limited to, the business community, personnel preparation programs at institutions of higher education (IHEs), parent training and information centers ² (PTIs), and other community-based organizations—needed to develop, implement, evaluate, scale-up, and sustain comprehensive retention plans that improve retention of special education teachers and early intervention personnel.

² For the purpose of this priority, the term “parent training and information centers” means OSEP-funded parent training and information centers that serve parents of children of all ages (birth to 26) and all types of disabilities. Discretionary grants are awarded only to parent organizations as defined by IDEA under CFDA 84.328. For more information, including centers located in each State and territory, see www.parentcenterhub.org/find-your-center/.

(d) Improved retention of special education teachers and early intervention personnel.

To be considered for funding under this priority, all applicants must meet the application requirements contained in the priority. All projects funded under this absolute priority also must meet the programmatic and administrative requirements specified in the priority.

Note: OSEP intends to fund projects that address retention of special education teachers and early intervention personnel. OSEP may fund high-quality applications out of rank order to ensure that projects are funded across both SEAs and Part C lead agencies.

Note: An applicant may submit an application that addresses retention of special education teachers or an application that addresses retention of early intervention personnel. An applicant may submit one application that addresses retention of both special education teachers and early intervention personnel. If addressing the retention of both special education teachers and early intervention personnel, the application must address all application requirements for each system.

Note: To be reviewed and be considered eligible to receive an award, applicants must demonstrate matching support for the proposed project at 10 percent of the total amount of the grant as specified in paragraph (f)(1) of the application requirements of this priority.

To meet the requirements of this priority, an applicant must—

(a) Demonstrate, in the narrative section of the application under “Significance,” how the proposed project will—

(1) Address the State, regional, or local need to retain special education teachers or early intervention personnel across the career continuum and at every level of experience. To meet this requirement, the applicant must—

(i) Present applicable State, regional, or local data demonstrating the current and projected number and percentage of special education teachers or early intervention personnel leaving their current positions (disaggregated, to the extent possible, by those retiring and those leaving for other reasons, such as promotion, moving to general education, or leaving the field);

(ii) Present applicable State, regional, or local data demonstrating the impact of teachers or early intervention personnel leaving their systems such as impacts on fiscal or academic outcomes; and

(iii) Describe factors contributing to special education teachers or early intervention personnel leaving their systems; and

(2) Address the need for improved infrastructure and partnerships with a broad range of stakeholder groups to retain special education teachers or early intervention personnel. To meet this requirement, the applicant must—

(i) Describe current State, regional, and local strategies that have been used or are being used to improve retention of special education teachers or early intervention personnel;

(ii) Describe the impact of implementing the strategies identified in paragraph (a)(2)(i) of this section;

(iii) Describe the changes in State, regional, and local infrastructure (e.g., governance, finance, personnel, coordination, data, and accountability and improvement) needed to improve retention of special education teachers or early intervention personnel;

(iv) Describe the collaborative relationships with a broad range of stakeholder groups that need to be strengthened or established to improve retention of special education teachers or early intervention personnel; and

(v) Describe the likely magnitude or importance of retaining more special education teachers or early intervention personnel at State, regional, and local levels.

(b) Demonstrate, in the narrative section of the application under “Quality of project services,” how the proposed project will—

(1) Ensure equal access and treatment for members of groups that have traditionally been underrepresented based on race, color, national origin, gender, age, or disability;

(2) Achieve its goals, objectives, and intended outcomes. To meet this requirement, the applicant must provide—

(i) Measurable intended project outcomes; and

(ii) In Appendix A, the logic model ³ by which the proposed project will achieve its intended outcomes that depicts, at a minimum, the goals, activities, outputs, and intended outcomes of the proposed project;

³ “Logic model” (34 CFR 77.1) (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Use up to the first 12 months of the project period to develop a comprehensive retention plan, or a plan to evaluate, scale-up, and sustain an existing comprehensive retention plan, that uses evidence-based policies and practices that address identified factors contributing to low retention to retain special education teachers or early intervention personnel. To meet this requirement, the applicant must include—

(i) Its proposed plan to collect and analyze additional data, as appropriate, to understand the factors, including policies and practices, contributing to low retention of special education teachers or early intervention personnel at the State, regional, and local levels;

(ii) The current and additional evidence-based policies and practices that will guide the development of the comprehensive retention plan or the plan to scale-up an already existing comprehensive retention plan, and the proposed process the applicant will use to address the identified factors contributing to low retention;

(iii) Its proposed process for identifying LEAs or EIS providers that the State will partner with to develop comprehensive retention plans, or plan to scale-up already existing comprehensive retention plans, to improve the retention of special education or early intervention personnel. The applicant should indicate the extent to which the poverty level of youth served, geography (e.g., rural, urban) or other demonstrated needs (e.g., staff shortages, historic pattern of high turnover rates) will factor into its process for identifying LEAs or EIS providers to partner with; and

(iv) Its proposed plan for identifying and establishing meaningful partnerships, as appropriate, with a broad range of stakeholder groups, including but not limited to the business community, IHEs, PTIs, and other community-based organizations, necessary to successfully develop a comprehensive retention plan, or to evaluate, scale-up, and sustain existing comprehensive retention plans;

(5) Implement, scale-up, and sustain a comprehensive retention plan that uses evidence-based policies and practices to address identified factors contributing to low retention of special education teachers or early intervention personnel. To meet this requirement, the applicant must include its approach to—

(i) Ensure an infrastructure (e.g., governance, finance, personnel, data, and accountability and improvement) is in place to implement the comprehensive retention plan at the State, regional, or local level;

(ii) Establish additional partnerships, as needed, including agreements that outline responsibilities, sharing of resources, and decision-making and communication processes among all partners;

(iii) Recruit LEAs or EIS providers to partner with to implement, evaluate, scale-up, and sustain the comprehensive recruitment plan. To meet this requirement, the applicant must include—

(A) The proposed process for identifying LEAs or EIS providers that the State will partner with to implement, evaluate, scale-up, and sustain the comprehensive retention plan, and expectations for participation, which must include the data that partners will need to be collected to demonstrate progress in implementing the comprehensive retention plan; and

(B) The proposed process the applicant will use to identify additional LEAs or EIS providers that it will partner with in years four and five if the project period is extended; and

(iv) The proposed process the applicant will use to sustain the comprehensive retention plan once Federal support ends; and

(6) Disseminate information on the effectiveness of evidence-based policies and practices used within the comprehensive retention plan and the impact of implementing the plan to other SEAs and LEAs or Part C lead agencies and local service providers to support other systems in increasing the retention of special education teachers or early intervention personnel.

(c) Demonstrate, in the narrative section of the application under “Quality of the project evaluation,” how—

(1) The applicant will use comprehensive and appropriate methodologies to evaluate how well the goals or objectives of the proposed project have been met, including project processes and intended outcomes. The applicant must describe performance measures for the project that include retention rates for special education teachers or early intervention personnel; and

(2) The applicant will collect, analyze, and use data related to specific and measurable goals, objectives, and intended outcomes of the project. To meet this requirement, the applicant must describe how—

(i) Retention of special education teachers or early intervention personnel and other project processes and outcomes will be measured for formative evaluation purposes, including proposed instruments, data collection methods, and proposed analyses;

(ii) Proposed evaluation methods will provide performance feedback that allows for periodic assessment of progress towards meeting the project outcomes;

(iii) Results of the evaluation will be used as a basis for improving the proposed project; and

(iv) Evaluation results will be reported to OSEP in its annual and final performance reports.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To meet this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed project will benefit from a diversity of perspectives, including those of individuals with disabilities, families of students with disabilities, administrators, teachers and personnel, faculty, technical assistance and professional development providers, PTIs, researchers, business leaders, and policymakers, among others, in its development and operation.

(f) Address the following application requirements. The applicant must—

(1) Demonstrate, in the budget information (ED Form 524, Section B) and budget narrative, matching support for the proposed project at 10 percent of the total amount of the grant;

Note: Matching support can be either cash or in-kind donations. Under 2 CFR 200.306, a cash expenditure or outlay of cash with respect to the matching budget by the grantee is considered a cash contribution. However, certain cash contributions that the organization normally considers an indirect cost should not be counted as a direct cost for the purposes of meeting matching support. Specifically, in accordance with 2 CFR 200.306(c), unrecovered indirect costs cannot be used to meet the non-Federal matching support. Under 2 CFR 200.434, third-party in-kind contributions are services or property (e.g., land, buildings, equipment, materials, supplies) that are contributed by a non-Federal third party at no charge to the grantee.

The Secretary does not, as a general matter, anticipate waiving this requirement in the future. Furthermore, given the importance of cost share or matching funds to the long-term success of the project, eligible entities must identify appropriate cost share or matching funds in the proposed three-year budget.

(2) Include, in Appendix A, personnel-loading charts and timelines, as applicable, to illustrate the management plan described in the narrative; and

(3) Include, in the budget, attendance at a two- and one-half day meeting in conjunction with either the OSEP project directors' conference or the OSEP leadership conference in Washington, DC, during each year of the project period.

Fourth and Fifth Year of Project

The Secretary may extend a project two years beyond the initial 36 months if the grantee is achieving the intended outcomes of the project (as demonstrated by data gathered as part of the project evaluation). Each applicant must include in its application a plan and a budget for the full 60-month period. In deciding whether to extend funding the project for the fourth and fifth years, the Secretary will consider the requirements of 34 CFR 75.253(a) and will consider the success and timeliness with which the intended outcomes of the project requirements have been or are being met by the project.

Competitive Preference Priority: Within this absolute priority, we give competitive preference to applications that address the following competitive preference priority. Under 34 CFR 75.105(c)(2)(i), we award up to an additional 5 points to an application, depending on how well the application meets the competitive preference priority.

This priority is:

Matching Support (Up to 5 points).

An application that demonstrates matching support for the proposed project at—

(a) 20 percent of the requested Federal award (1 point);

(b) 40 percent of the total amount of the requested Federal award (2 points);

(c) 60 percent of the total amount of the requested Federal award (3 points);

(d) 80 percent of the total amount of the requested Federal award (4 points); or

(e) 100 percent of the total amount of the requested Federal award (5 points).

Applicants must address this competitive preference priority in the budget information (ED Form 524, Section B) and budget narrative.

References

Billingsley, B., & Bettini, E. (2019). Special education teacher attrition and retention: A review of the literature. Review of Educational Research. Advance Online Publication. https://doi.org/10.3102/0034654319862495.

Carver-Thomas, D., & Darling-Hammond, L. (2017). Teacher turnover: Why it matters and what we can do about it. Learning Policy Institute. https://learningpolicyinstitute.org/product/teacher-turnover.

Council for Exceptional Children. (2019). Special education legislative summit.

Early Childhood Technical Assistance Center. (2015). A system framework for building high-quality early intervention and preschool special education programs. https://ectacenter.org/~pdfs/pubs/ecta-system_framework.pdf.

Espinoza, D., Saunders, R., Kini, T., & Darling-Hammond, L. (2018). Taking the long view: State efforts to solve teacher shortages by strengthening the profession. Learning Policy Institute. https://learningpolicyinstitute.org/product/long-view.

Great Teachers and Leaders Center. (2020). Educator shortages in special education: Toolkit for developing local strategies. https://gtlcenter.org/technical-assistance/toolkits/educator-shortages-special-education.

IDEA Infant and Toddler Coordinators Association. (2019). 2019 Tipping points annual survey: State challenges. www.ideainfanttoddler.org/pdf/2019-ITCA-State-Challenges-Report.pdf.

Mason-Williams, L., Bettini, E., Peyton, D., Harvey, A., Rosenberg, M., & Sindelar, P. (2019). Rethinking shortages in special education: Making good on the promise of an equal opportunity for students with disabilities. Teacher Education and Special Education, 1-18.

Sutcher, L., Darling-Hammond, L., & Carver-Thomas, D. (2016). A coming crisis in teaching? Teacher supply, demand, and shortages in the U.S. Learning Policy Institute. https://learningpolicyinstitute.org/product/coming-crisis-teaching.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1462 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 304.

Note: The regulations in 34 CFR part 86 apply to IHEs only.

II. Award Information

Type of Award: Discretionary grants.

Estimated Available Funds: $4,000,000.

Contingent upon the availability of funds and the quality of applications, we may make additional awards in FY 2021 from the list of unfunded applications from this competition.

Estimated Range of Awards: $700,000-$750,000.

Estimated Average Size of Awards: $725,000.

Maximum Award: We will not make an award exceeding $750,000 for a project period of 36 months for applications addressing the retention of either special education teachers or early intervention personnel. We will not make an award exceeding $1,500,000 for a project period of 36 months for applications addressing retention of both special education teachers and early intervention personnel.

Note: Applicants must describe, in their applications, the amount of funding being requested for each 12-month budget period.

Estimated Number of Awards: 16.

Project Period: Up to 36 months.

Note: The Department is not bound by any estimates in this notice.

III. Eligibility Information

1. Eligible Applicants: SEAs and Part C lead agencies are the only eligible applicants.

2. Cost Sharing or Matching: Cost sharing or matching is required for this competition.

3. Subgrantees: A grantee under this competition may not award subgrants to entities to directly carry out project activities described in its application. Under 34 CFR 75.708(e), a grantee may contract for supplies, equipment, and other services in accordance with 2 CFR part 200.

4. Other General Requirements: (a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application. Grants.gov has relaxed the requirement for applicants to have an active registration in the System for Award Management (SAM) in order to apply for funding during the COVID-19 pandemic. An applicant that does not have an active SAM registration can still register with Grants.gov, but must contact the Grants.gov Support Desk, toll-free, at 1-800-518-4726, in order to take advantage of this flexibility.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 50 pages if addressing retention of either special education teachers or early intervention personnel or 90 pages if addressing retention of both special education teachers and early intervention personnel in one application and (2) use the following standards:

• A “page” is 8.5″ × 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project, especially improvements in teaching and student achievement.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which the services to be provided by the proposed project reflect up-to-date knowledge from research and effective practice.

(iii) The extent to which the training or professional development services to be provided by the proposed project are of sufficient quality, intensity, and duration to lead to improvements in practice among the recipients of those services.

(iv) The extent to which the services to be provided by the proposed project involve the collaboration of appropriate partners for maximizing the effectiveness of project services.

(v) The extent to which the proposed activities constitute a coherent, sustained program of training in the field.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the goals, objectives, and outcomes to be achieved by the proposed project are clearly specified and measurable.

(iii) The extent to which the methods of evaluation include the use of objective performance measures that are clearly related to the intended outcomes of the project and will produce quantitative and qualitative data to the extent possible.

(iv) The extent to which the methods of evaluation will provide performance feedback and permit periodic assessment of progress toward achieving intended outcomes.

(d) Adequacy of resources and quality of project personnel (15 points).

(1) The Secretary considers the adequacy of resources and quality of project personnel for the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel.

(ii) The adequacy of support, including facilities, equipment, supplies, and other resources, from the applicant organization or the lead applicant organization.

(iii) The extent to which the costs are reasonable in relation to the objectives, design, and potential significance of the proposed project.

(e) Quality of the management plan (15 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: We have established the following performance measures for this grant program (84.325P):

(a) Number and percent of special education teachers and early intervention service providers that participated in project-funded activities that are retained in their current position, or continuing to primarily serve children with disabilities in early intervention or school settings; and

(b) Retention rate for special education teachers or EIS providers at the State, regional, or local system level that participated in project-funded activities compared to the historical retention of providers in the same State, regional, or local system(s) in years prior to participation in the proposed project.

Grantees will be required to report information on their project's performance in annual and final performance reports to the Department (34 CFR 75.590).

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2020-12583 Filed 6-10-20; 8:45 am]

BILLING CODE 4000-01-P